DEPARTMENT OF HEALTH AND HUMAN SERVICES

National Institutes of Health

National Institute of Biomedical Imaging and Bioengineering; Notice of Closed Meeting

Pursuant to section 1009 of the Federal Advisory Committee Act, as amended, notice is hereby given of the following meeting of the Board of Scientific Counselors, National Institute of Biomedical Imaging and Bioengineering.

The meeting will be closed to the public as indicated below in accordance with the provisions set forth in section 552b(c)(6), title 5 U.S.C., as amended, for the review, discussion, and evaluation of individual intramural programs and projects conducted by the National Institute of Biomedical Imaging and Bioengineering, including consideration of personnel qualifications and performance, and the competence of individual investigators, the disclosure of which would constitute a clearly unwarranted invasion of personal privacy.

Name of Committee: Board of Scientific Counselors, National Institute of Biomedical Imaging and Bioengineering.

Date: June 23-24, 2025.

Time: 9:00 a.m. to 12:00 p.m.

Agenda: To review and evaluate personnel qualifications and performance, and competence of individual investigators.

Place: National Institutes of Health, Building 49, Room A/B, 9000 Rockville Pike, Bethesda, MD 20892.

Meeting Format: In-Person.

Contact Person: Richard D. Leapman, Ph.D., Intramural Scientific Director, National Institute of Biomedical Imaging and Bioengineering, National Institutes of Health, Building 13, Room 3E 73, Bethesda, MD 20892, (301) 496-2599, leapmanr@mail.nih.gov.

(Catalogue of Federal Domestic Assistance Program Nos. 93.866, National Institute of Biomedical Imaging and Bioengineering, National Institutes of Health.)

Melanie J. Pantoja,
Program Analyst, Office of Federal Advisory Committee Policy.

[FR Doc. 2025-04936 Filed 3-21-25; 8:45 am]

BILLING CODE 4140-01-P